FEDERAL COMMUNICATIONS COMMISSION

47 CFR Part 1

[MD Docket No. 19-105; DA 19-1183; FRS 16274]

Assessment and Collection of Regulatory Fees for Fiscal Year 2019

AGENCY: Federal Communications Commission.

ACTION: Proposed rule, extension of comment and reply comment period.

SUMMARY: In this document, the Commission extends the comment and reply comment period of the Further Notice of Proposed Rulemaking portion of the proceeding that was released on August 27, 2019.

DATES: The deadline for filing comments is extended to December 6, 2019, and the deadline for filing reply comments is extended to January 6, 2020.

ADDRESSES: You may submit comments, identified by MD Docket No. 19-105, by any of the following methods:

• Electronic Filers: Comments may be filed electronically using the internet by accessing the ECFS: http://apps.fcc.gov/ecfs/.

• People with Disabilities: Contact the FCC to request reasonable accommodations (accessible format documents, sign language interpreters, CART, etc.) by email: FCC504@fcc.gov or phone: 202-418-0530 or TTY: 202-418-0432.

• Email: ecfs@fcc.gov. Include MD Docket No. 19-105 in the subject line of the message.

Mail: Commercial overnight mail (other than U.S. Postal Service Express Mail, and Priority Mail, must be sent to 9050 Junction Drive, Annapolis Junction, MD 20701.

For detailed instructions for submitting comments and additional information on the rulemaking process, see the SUPPLEMENTARY INFORMATION section of this document.

FOR FURTHER INFORMATION CONTACT: Roland Helvajian, Office of Managing Director at (202) 418-0444.

SUPPLEMENTARY INFORMATION: For a full text of the Further Notice of Proposed Rulemaking (NPRM) document,¹ please see the FCC Reference Center, 445 12th Street SW, Room CY-A257, Portals II, Washington, DC 20554 for copying and inspection. This document is available in alternative formats (computer diskette, large print, audio record, and braille). Persons with disabilities who need documents in these formats may contact the FCC by email: FCC504@fcc.gov or phone: 202-418-0530 or TTY: 202-418-0432.

¹ Assessment and Collection of Regulatory Fees for Fiscal Year 2019, Report and Order and Further Notice of Proposed Rulemaking, 34 FCC Rcd 8189 (2019).

I. Background

1. On August 27, 2019, the Commission released a Report and Order and Further Notice of Proposed Rulemaking in this proceeding.² In the FNPRM, the Commission seeks comment on a number of regulatory fee issues, including assessing regulatory fees on non-U.S. licensed space stations, allocation of International Bureau staff for purposes of calculating regulatory fees and issues arising out of the updated methodology for assessing fees on broadcast TV providers. Comments were due on November 22, 2019 and reply comments due on December 23, 2019.³

² Assessment and Collection of Regulatory Fees for Fiscal Year 2019, Report and Order and Further Notice of Proposed Rulemaking, 34 FCC Rcd 8189 (2019).

³ Publication of Regulatory Fee Further Notice of Proposed Rulemaking in the Federal Register, Public Notice, DA 19-1067 (rel. Oct. 23, 2019).

2. SIA requests an extension of the comment period to December 13, 2019. In support of its request, SIA explains that the issues are complex and their resolution will have a significant impact on its' member companies. Many of SIA's members, however, are currently participating in the World Radiocommunication Conference (WRC-19) in Sharm El Sheikh, Egypt, which runs from October 28 through November 22. SIA requests the extension to ensure affected companies will have sufficient time to consider and respond to the Commission's proposed changes upon their return from WRC-19.

3. As set forth in section 1.46 of the Commission's rules, the Commission's policy is that extensions of time for filing comments in rulemaking proceedings shall not be routinely granted. In this case, however, we find that the scope, and importance of the issues raised in the FNPRM warrant an extension of the comment and reply comment deadlines. We believe that extending the deadlines will serve the public interest by providing interested parties with additional time to develop full and complete responses to inform the Commission's deliberations. Therefore, the Office of Managing Director (OMD) grants a request filed by the Satellite Industry Association (“SIA”) seeking an extension of time to submit comments and reply comments in response to Further Notice of Proposed Rulemaking (FNPRM) in this proceeding. The deadline for filing comments is extended to December 6, 2019, and the deadline for filing reply comments is extended to January 6, 2020.

II. Ordering Clauses

4. Accordingly, it is ordered that, pursuant to sections 4(i), 4(j), and 303(r) of the Communications Act, as amended, 47 U.S.C. 154(i), 154(j), and 303(r), and section 1.46 of the Commission's rules, 47 CFR 1.46, the Request for Extension of Time to File Comments and Reply Comments filed by the Satellite Industry Association is granted. The deadline for filing comments is extended to December 6, 2019, and the deadline for filing reply comments is extended to January 6, 2020.

5. It is further ordered that, pursuant to section 1.102(b)(1) of the Commission's rules, 47 CFR 1.102(b)(1), this document shall be effective upon release. This action is taken pursuant to the authority delegated by Sections 0.11 and 0.231 of the Commission's rules, 47 CFR 0.11, 0.231.

Federal Communications Commission.
Marlene Dortch,
Secretary.

[FR Doc. 2019-25860 Filed 11-27-19; 8:45 am]

BILLING CODE 6712-01-P